DEPARTMENT OF COMMERCE

National Oceanic and Atmospheric Administration

RIN 0648-XG927

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Acting Assistant Regional Administrator for Sustainable Fisheries, Greater Atlantic Region, NMFS, has made a preliminary determination that an exempted fishing permit application submitted by The Nature Conservancy contains all of the required information and warrants further consideration. This exempted fishing permit would allow participants to use electronic monitoring systems in lieu of at-sea monitors in support of a study to develop electronic monitoring for catch monitoring in the Northeast multispecies fishery. Regulations under the Magnuson-Stevens Fishery Conservation and Management Act require publication of this notification to provide interested parties the opportunity to comment on applications for proposed exempted fishing permits.

DATES: Comments must be received on or before April 29, 2019.

ADDRESSES: You may submit written comments by either of the following methods:

• Email: nmfs.gar.efp@noaa.gov. Include in the subject line “TNC EM EFP RENEWAL.”

• Mail: Michael Pentony, Regional Administrator, NMFS, Greater Atlantic Regional Fisheries Office, 55 Great Republic Drive, Gloucester, MA 01930. Mark the outside of the envelope “TNC EM EFP RENEWAL.”

FOR FURTHER INFORMATION CONTACT: Maria Vasta, Fishery Management Specialist: 978-281-9196; maria.vasta@noaa.gov.

SUPPLEMENTARY INFORMATION: Northeast multispecies sectors are required to implement and fund an at-sea monitoring (ASM) program. Sectors may use electronic monitoring (EM) to satisfy this monitoring requirement, provided NMFS deems the technology sufficient for catch monitoring. NMFS has yet to approve EM as a suitable alternative to ASM. However, we are working with industry and other stakeholders to test the operational feasibility of EM and resolve outstanding issues that are barriers to implementation.

In fishing year 2016, The Nature Conservancy, in partnership with the Cape Cod Commercial Fishermen's Alliance, the Maine Coast Fishermen's Association, the Gulf of Maine Research Institute, and fishermen enrolled in various groundfish sectors, obtained an exempted fishing permit (EFP) authorizing participant vessels to use EM in lieu of human observers to meet their ASM requirements. Project partners applied to renew this EFP in fishing years 2017 and 2018, and the EFP was reissued in both years.

Table 1—Participation in Previous Issues of the Partial Audit-Model EM EFP
Fishing year | Number of participant vessels | ASM coverage level (percent)
2016 | 14 | 14
2017 | 5 | 16
2018 | 5 | 15

On February 15, 2019, The Nature Conservancy, along with project partners, submitted a request to renew this EFP for the 2019 fishing year, as part of an ongoing effort to pilot EM in the fishery. Work conducted under the proposed EFP would help refine proposed standards for a comprehensive EM program in the groundfish fishery. The proposed participant list includes five vessels, all of which participated in this EFP in fishing year 2018. Together, they are expected to take an estimated 235 trips in fishing year 2019. At 31 percent observer coverage, this would equate to roughly 75 EFP trips.

Vessels participating in this EFP would use EM in lieu of human ASMs, and in addition to Northeast Fishery Observer Program (NEFOP) observers, on groundfish trips selected for observer coverage. Vessels would adhere to a vessel-specific Vessel Monitoring Plan (VMP) detailing at-sea catch handling protocols. An EM service provider would review 100 percent of the video footage. The provider would also produce an EM summary report identifying, counting, and generating weight estimates for all groundfish discards, which it would submit to the NMFS Greater Atlantic Fisheries Regional Office. These data would be used for catch accounting purposes on trips selected for ASM coverage. EM data would not be used for catch accounting in place of observer data on NEFOP trips. However, the information generated through this EM project could facilitate comparisons between cameras and human observers in the future. Following the EM service provider's review, the Northeast Fisheries Science Center would conduct a secondary review of the EM summary reports for all or a subset of EFP trips.

Under this EFP, participating vessels would be exempt from minimum fish size requirements (§ 648.83(a)) for Northeast multispecies, for sampling purposes only; and ocean pout, windowpane flounder, and Atlantic wolffish possession prohibitions (§ 648.86(l)), for sampling purposes only. Vessels would also be exempt from their sector's third-party monitoring program requirements (§ 648.87(b)(1)(v)(B)) only; all other standard sector reporting and monitoring requirements, such as using dealer-reported landings and vessel trip reports, would still apply. Vessels would be assigned observer coverage at the fishing year 2019 ASM coverage level of 31 percent, which is a combination of NEFOP and ASM coverage. All catch of allocated groundfish stocks would be deducted from the appropriate sector's allocation. Legal-sized regulated groundfish would be retained and landed as required by the Northeast Multispecies Fishery Management Plan. Undersized groundfish would be handled according to the VMP guidelines in view of cameras and returned to the sea as quickly as possible. All other species would be handled per normal commercial fishing operations. No legal-size regulated groundfish would be discarded, unless otherwise permitted through regulatory exemptions granted to the participating vessel's sector.

If approved, the applicant may request minor modifications to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: April 9, 2019.
Jennifer M. Wallace,
Acting Director, Office of Sustainable Fisheries, National Marine Fisheries Service.

[FR Doc. 2019-07283 Filed 4-11-19; 8:45 am]

BILLING CODE 3510-22-P